DEPARTMENT OF HEALTH AND HUMAN SERVICES

Request for Applications for the Intergenerational Approaches to HIV/AIDS Prevention Education With Women Across the Lifespan Pilot Program

AGENCY: Office on Women's Health, Office of Public Health and Science, Office of the Secretary, HHS.

ACTION: Notice.

Announcement Type: Cooperative Agreement—FY 2006 Initial announcement.

Funding Opportunity Number: Not applicable.

OMB Catalog Of Federal Domestic Assistance: The OMB Catalog of Federal Domestic Assistance number is pending.

DATES: To receive consideration, the applications must be received by the Office of Grants Management, Office of Public Health and Science (OPHS), Department of Health and Human Services (DHHS), no later than July 31, 2006.

Pre-site visits (if needed)—July 10-14, 2006.

Award date—September 1, 2006.

SUMMARY: The Office on Women's Health (OWH) in the Department of Health and Human Services (DHHS) is the government's focal point for women's health issues, and works to redress inequities in research, health care services, and education that have historically placed the health of women at risk. The OWH coordinates women's health efforts within DHHS to eliminate disparities in health status and supports culturally sensitive educational programs that encourage women to take personal responsibility for their own health and wellness. To that end, OWH has established public/private partnerships to address critical women's health issues nationwide. These partnerships are with non-profit community-based, faith-based, and women's service organizations (CBOs, FBOs, WSOs) innovating intergenerational approaches for HIV/AIDS prevention education targeting women disproportionately impacted by HIV/AIDS across the lifespan. African American and Latino women constituted 25 percent of the U.S. female population in 2002, but 81.5 percent of the reported female AIDS cases (65 percent were among African Americans and 16.5 percent were among Hispanics). (1) The number of Asian/Pacific Islanders and American Indian/Alaskan Native women living with AIDS continues to rise, with an approximately 10 percent increase each year over the past 5 years. (2) Women disproportionately impacted by HIV/AIDS are vulnerable for the disease because they lack accurate information about the virus; are impacted by cultural factors that decrease their abilities to protect themselves against HIV; have low to no condom negotiation skills; are faced with low socioeconomic circumstances; suffer from sexual abuse; struggle with violence and other traumas perpetrated against women, and lack information and skills to share sexual health information with other female members in the family. To this end, the Intergenerational Approaches to HIV/AIDS Prevention Education with Women Across the Lifespan Pilot Program intends to: (1) Develop a cross-generational HIV/AIDS prevention education program to establish effective and/or increase communication about sexual health between African American, Native American/American Indian, Hispanic/Latino, and Asian/Pacific Islander women at risk for or living with HIV/AIDS with other female family and/or kinship network members 12+ years old; (2) provide opportunities for African American, Native American/American Indian, Hispanic/Latino, and Asian/Pacific Islander women and other female members of the family 12+ years old to know their serostatus; and (3) address the age-, gender-, cultural-, spiritual-, and language-specific needs of African American, Native American/American Indian, Hispanic/Latino, and Asian/Pacific Islander women and other female members of the family 12+ years old regarding their sexual health issues, particularly HIV/AIDS prevention so they may decrease their risks for disease.

This program builds on Minority AIDS Initiative- and Office on Women's Health-funded Women and HIV/AIDS Programs (e.g., Model Mentorship Program; HIV Prevention Education for Young Women Attending Minority Academic Institutions) by addressing HIV/AIDS issues using the strength of familial and kinship networks, as well as women-specific vulnerabilities to acquiring the virus.

HHS Collaborative Partners

(1) The OWH is the lead for this program and will be responsible for project officer duties.

(2) The following DHHS agencies and offices have agreed to establish a collaborative partnership:

• Office on Women's Health (OWH), OPHS.

• Substance Abuse Mental Health Services Administration (SAMHSA).

• Office of HIV/AIDS Policy (OHAP), OPHS.

• Indian Health Service (IHS).

• Administration on Aging (AOA).

• Office of Population Affairs (OPA).

• Administration for Children and Families (ACF).

• Center for Faith-Based Community Initiatives (CFBCI).

Together these agencies agree to recruit technical review panelists to evaluate grant proposals; make presentations during the orientation meetings; provide advice and materials during the program year; provide advice during quarterly project monitoring teleconferences; and serve as site evaluation team members and/or assist in development of site evaluation form.

I. Funding Opportunity Description

Administration Authority: This program is authorized by 42 U.S.C. 300u-2(a).

The purpose of the Intergenerational Approaches to HIV/AIDS Prevention Education with Women Across the Lifespan Pilot Program is to develop cross-generational HIV/AIDS prevention education approaches specific to women at risk for or living with HIV/AIDS and other female members of the family 12+ years old , particularly African American, Native American/American Indian, Hispanic/Latino, and Asian/Pacific Islander women from the Diaspora who are grandmothers, mothers, daughters, granddaughters, and aunts. The goals of the program are:

• To teach cross-generations of women and other female members of the family 12+ years old how to develop healthy communication patterns built on caring, trusting familial relationships; and

• Equip women to give accurate information about their sexual health issues between other female members of the family 12+ years old by incorporating gender-focused, age-specific, culturally competent, and linguistically-appropriate HIV/AIDS prevention information.

The objectives of the program are for African American, Native American/American Indian, Hispanic/Latino, and Asian/Pacific Islander women and other female members of the family 12+ years old to:

• Know their serostatus;

• Increase their knowledge of HIV/AIDS prevention;

• Gain competencies in cross-generational communications about health in general and sexual health specifically; and

• Connect with a primary healthcare physician (and navigate other systems of care).

In order to achieve the objectives of the program, the grantee shall:

A. During months 1-5 (start-up phase):

1. Attend the OWH Grantee Orientation Meeting. It will be conducted by OWH and DHHS Collaborating Partners (OHAP, IHS, AOA, OPA, ACF, and CFBCI).

2. Hire and all train staff:

a. Request local health department to conduct in-service training on how to establish a review process for conducting a local program evaluation to measure whether goals and objectives are met.

3. Complete program development, including but not limited to the following activities:

a. Complete development of training modules, assessment tools, and protocols necessary to present an intergenerational approach for HIV/AIDS prevention education to reach African American, Native American/American Indian, Hispanic/Latino, or Asian/Pacific Islander women at risk for or living with HIV/AIDS and other female members of the family 12+ years old that reflects: (Note: Grantee must reach only one racial/ethnic minority group)

• The cultural, spiritual, and/or ritual factors that bridge traditional and American mores and values for women at risk for or living with HIV/AIDS, especially African American; Native American/American Indian, Hispanic/Latino, and Asian/Pacific Islander; and,

• Incorporate the “ABC” message as strategies to prevent HIV/AIDS; specifically, for adolescents and unmarried individuals, the message should include “A” for abstinence; for married individuals or those in committed relationships, the message is “B” for be faithful; and, for individuals who engage in behavior that puts them at risk for HIV, the message should include “A,” “B,” and “C” for correct and consistent condom use.

• Evidence-based (with U.S. Government policies) HIV/AIDS prevention education curricula designed to reach women at risk for or living with HIV/AIDS and other female members of the family 12+ years old.

b. With adapted tools from local health department, develop the local program evaluation to measure whether the program goals and objectives are met.

4 Recruit a Team of Consumers to give feedback on what works best during all phases of program development and implementation.

5. Recruit community stakeholders with the following roles:

a. Provide HIV testing opportunities for focus group participants (and consumer advisory team).

b. Provide age-specific referral services via scheduled weekly appointments for women at risk for or living with HIV/AIDS and other female members of the family 12+ years old to receive counseling services from a licensed female behavioral health therapist with expertise in counseling women and other female members of the family 12+ years old most vulnerable for acquiring HIV/AIDS, e.g. counseling to address fear, stigma, abuse, and other areas of need that prevent participants from practicing healthy behaviors.

6. Recruit women at risk for or living with HIV/AIDS to participate in focus groups to:

• Identify gender-focused concerns of women most vulnerable for acquiring HIV/AIDS to be included in trainings;

• Identify age- and culturally-specific barriers to effective cross-generational communication for each women and other female members of the family 12+ years old disproportionately impacted by HIV/AIDS, for instance, African American, Native American/American Indian, Hispanic/Latino, and Asian/Pacific Islander women from the Diaspora;

• Adult minority women participants to develop strategies for recruiting other female members of the family 12+ years old;

• Participate in small group piloting of the training;

• Provide entry to untapped venues to recruit additional participants;

• Recruit age-appropriate peer support group leaders;

• Recruit peers to get tested for HIV; and

• Recruit peers to participate in program.

7. Submit:

a . Four abstracts for workshop and/or poster presentations at one national HIV/AIDS conference targeting public health professionals; and

b. Four abstracts for one community conference attracting an audience of consumers.

8. Require all program staff, consultants, and volunteers to attend OWH site evaluation visit.

9. Identify twenty funding opportunities and submit four applications.

10. Before start-up phase ends, recruit African American, Native American/American Indian, Hispanic/Latino, and Asian/Pacific Islander women at risk for or living with HIV/AIDS in places where they naturally gather both as a family and individually, including but not limited to:

• Churches and other places of worship.

• Alumni associations of academic institutions for higher learning.

• Women's professional organizations/social organizations.

• PTA meetings.

• Commercial fitness centers.

• Beauty centers.

• English as a Second Language (ESL) courses.

• Conferences.

• Sporting events.

• Supermarkets.

11. Submit OWH initial progress report.

B. During months 6-8 (pilot-test phase 1):

1. Pilot-test program and make program adaptations.

a. Professional counseling services by licensed female behavioral therapist with expertise in counseling women at risk for or living with HIV/AIDS and other female members of the family 12+ years old to be offered to program participants.

b. Peer group support to be offered to program participants.

c. Review and measure success of meeting goals and objectives to-date.

2. Convene scheduled meetings for the:

a. Team of Consumers.

b. Community stakeholders.

3. Require program participants, Team of Consumers, and community stakeholders to recruit new program participants.

4. Receive confirmation for (2) conference presentations.

5. Submit four applications to Federal and non-Federal funding sources.

6. Submit OWH mid-year progress report.

C. During months 9-12 (pilot phase 2).

1. Conduct program with adaptations finalized from pilot phase 1:

• Offer counseling to program participants.

• Offer peer group support to program participants.

2. Convene final meetings for the:

a. Team of Consumers.

b. Community stakeholders.

3. Review the success of meeting program goals and objectives.

4. Conduct one presentation (workshops, panels, posters) on the program at a national HIV/AIDS prevention conference targeting public health professionals.

5. Conduct one presentation (workshops, panels, posters) on the program at one community conference targeting consumers.

5. Submit four applications to Federal and non-Federal funding sources.

6. Submit OWH final progress report.

7. Submit OWH annual report.

II. Award Information

Under this announcement, the OWH anticipates making four cooperative agreement awards. Approximately $1,000,000 is available to make four awards of up to $250,000 each. It is expected that the award will cover costs for the period September 1, 2006 through August 31, 2007. Funding estimates may change.

III. Eligibility Information

1. Eligible Applicants

Eligible entities may include: non profit community-based organizations, faith-based organizations, national organizations, colleges and universities, clinics and hospitals, research institutions, State and local government agencies, tribal government agencies and tribal/urban Indian organizations.

2. Cost Sharing or Matching

Cost sharing and matching funds is not a requirement of this grant.

IV. Application and Submission Information

1. Address to Request Application Package: Application kits may be requested by calling (240) 453-8822 or writing to: Director, Office of Grants Management, Office of Public Health and Science, DHHS, 1101 Wootten Parkway, Suite 550, Rockville, MD 20852. Applicants may fax a written request to the OPHS Office of Grants Management to obtain a hard copy of the applications kit at (240) 453-8823.

2. Content and Format of Application and Submission: At a minimum, each application for a cooperative agreement grant funded by this OWH announcement must:

• Describe the applicant's record of success in providing HIV/AIDS prevention education, support services, and/or other services (e.g., other minority women's health issues; socioeconomic empowerment services; educational services) to women at risk for or living with HIV/AIDS.

• Describe the applicant's current HIV/AIDS prevention education, support services, and/or other services for the women at risk for or living with HIV/AIDS served by the agency.

• Give details on the barriers to cross-generational communication between grandmothers, mothers, daughters, aunts, and other female members of the family 12+ years old citing the impact of age, culture, traditions, and spirituality, as well as any trends or shifts in these areas.

• Clearly define the women at risk for or living with HIV/AIDS to be reached by giving demographic and HIV/AIDS data covering the applicant's local service area and State (must cite all data from credible sources only).

• Describe the applicant's work utilizing Teams of Consumers for feedback, in such cases where consumer feedback assisted in the design of new programs or making program adaptations that better meet the needs of those to be served.

• Describe in detail any focus groups convened by the agency to reach women at risk for or living with HIV/AIDS, including demographic information, focus group leadership, number of participants, number of sessions, topics for each session, participant age range, and outcomes of the focus groups.

• Describe the applicant's knowledge and/or experience with evidence-based HIV/AIDS prevention education curricula for women at risk for or living with HIV/AIDS in America. Cite your sources.

• Provide a timeline for start-up, two piloting phases, and the proposed intergenerational approach for HIV/AIDS prevention education with a description of the demographics for women at risk for or living with HIV/AIDS and other female members of the family 12+ years old to be reached.

• Provide a draft Plan of Action that links the applicant's timeline with delineated tasks to be accomplished over the three phases of the program.

• Give a detailed description of the participation of applicant in existing community collaborative efforts. Include information on the purpose for collaboration; goals and objectives; names and complete contact information for partners; roles of each partner; timeline; challenges; corrective actions; and achievements.

• Describe the applicant's competency or needs to build skills in reviewing whether program goals and objectives are met during all phases of the funding period.

• Describe the process for determining whether program goals and objectives are met during all phases of the funding period.

Format and Limitations of Application: Applicants are required to submit an original ink-signed and dated application and 2 photocopies. All pages must be numbered clearly and sequentially beginning with the Project Summary. The application must be typed double-spaced on one side of plain 8½″ x 11″ white paper, using 12 point font, and containing 1″ margins all around. The Project Summary and Project Narrative must not exceed a total of 25 double-spaced pages, excluding the appendices. The original and each copy must be stapled and/or otherwise securely bound. The application should be organized in accordance with the format presented in the Program Guidelines. An outline for the minimum information to be included in the “Project Narrative” section is presented below. The content requirements for the Project Narrative portion of the application are divided into five sections and described below within each Factor. Applicants must pay particular attention to structuring the narrative to respond clearly and fully to each review Factor and associated criteria.

Background (Understanding of the Problem)

A. Provide a preliminary assessment of the HIV/AIDS prevention and support service needs for women at risk for or living with HIV/AIDS to be reached in this program. The assessment must be an age-specific demographic and service need profile for African American, Native American/American Indian, Hispanic/Latino, or Asian/Pacific Islander women disproportionately impacted by HIV/AIDS and other female members of the family 12+ years old in your local service area and State (cite data from credible sources only).

B. Describe issues or challenges that impact African American, Native American/American Indian, Hispanic/Latino, or Asian/Pacific Islander women at risk for or living with HIV/AIDS to be able to have effective cross-generational communication about: (1) Their own sexual health issues; and (2) the health of female family or kinship network members 12+ years old about:

• Understanding a woman's body and how to care for it over the lifespan;

• Knowledge of ways to enhance health;

• Building and/or maintaining healthy relationships that include an understanding of health threats;

• Awareness of a primary healthcare system and how to access it;

• Skills to express feelings and concerns about one's sexual health issues to other female family or kinship network members 12+ years old;

• Awareness and ability to insure physical safety when threatened by sexual, physical, or emotional violence.

Implementation Plan (Approach)

A. State goals for achieving the intended purpose of the proposed Intergenerational Approaches to HIV/AIDS Prevention Education with Women Across the Lifespan Pilot Program: To develop a cross-generational HIV/AIDS prevention education approach specific to women at risk for or living with HIV/AIDS and other female members of the family 12+ years old, particularly African American women, Native American/American Indian, Hispanic/Latino, and Asian/Pacific Islander women from the Diaspora who are grandmothers, mothers, daughters, granddaughters, and aunts.

B. State quantifiable objectives for the number of African American, Native American/American Indian, Hispanic/Latino, or Asian/Pacific Islander women at risk for or living with HIV/AIDS and other female members of the family 12+ years old to be reached for the proposed program.

C. Give a detailed Plan of Action and timeline covering:

• Start-up phase activities;

• First pilot phase activities; and

• Second pilot phase activities.

Management Plan

A. Key project staff, volunteer, and student interns; their resumes; and a staffing chart for budgeted staff.

B. To-be-hired staff and their qualifications, including but not limited to a contractual services of a licensed female behavioral health therapist with expertise in counseling African American, Native American/American Indian, Hispanic/Latino, and Asian/Pacific Islander women at risk for or living with HIV/AIDS and other female members of the family 12+ years old.

C. Staff, consultant/sub-contractor, volunteer, and student intern responsibilities.

D. Management oversight of staff roles and job performance.

E. Address maintenance of confidentiality, ethics in performance, and any mandatory in-service staff training.

Evaluation Plan

A. Indicators that reflect goals/objectives are being met.

B. Indicators of any trends.

C. Indicators of any unanticipated outcomes.

Appendices

A. Required Forms (Assurance of Compliance Form, etc.).

B. Key Staff Resumes.

C. Charts/Tables (target population demographics, gaps in services, etc.).

D. Other attachments.

Use of Funds

A majority of the funds from the award must be used to support staff and efforts aimed at implementing the program. Funds may be used for supplies (including screening, education, and outreach supplies); local travel to perform duties of the funded HIV/AIDS prevention program; and out-of-town travel (required attendance at the OWH Grantee Orientation meeting and participation in one national HIV/AIDS prevention conference). Funds may not be used for construction, building alterations, equipment, medical treatment, or renovations. All budget requests must be justified fully in terms of the proposed goals and objectives and include an itemized computational explanation/breakout of how costs were determined.

Meetings

The OWH will sponsor a mandatory orientation meeting for grantees. The meeting will be held in the Washington metropolitan area or in one of the ten (10) HHS regional office cities. The budget should include a request for funds to pay for the travel, lodging, and meals. The meeting is usually held within the first eight weeks after awards are made.

The Federal Government (Project Officer) will:

A. Provide substantive guidance and advisement throughout the program funding period, particularly for training development, connecting grantees to OWH Regional Health Coordinators and HHS collaborating partners, to name a few.

B. Conduct an orientation meeting for the grantees (with other federal partners) within the first 8 weeks of the funding period.

C. Conduct at least one site evaluation visit (with DHHS Collaborative Partners) that may include observation of program during pilot or implementation phase.

D. Conduct quarterly project monitoring teleconferences (with DHHS Collaborative Partners).

E. Review all quarterly, final, and annual progress reports.

F. Review timeline and implementation plan.

3. Submission Date and Times: All completed applications must be submitted to the Office of Grants Management, OPHS, DHHS at the above mailing address. In preparing the application, it is important to follow ALL instructions provided in the application kit.

Applications must be submitted on the forms supplied (OPHS-1, Revised 6/2001) and in the manner prescribed in the application kits provided by the OPHS. Applicants are required to submit an application signed by an individual authorized to act for the applicant agency or organization and to assume for the organization the obligations imposed by the terms and conditions of the grant award. The program narrative should not be longer than 25 double-spaced pages, not including appendices and required forms, using an easily readable, 12 point font. All pages, figures and tables should be numbered.

Submission Mechanisms

The OPHS provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by using the http://www.Grants.gov Web site portal is encouraged.

Electronic grant application submissions must be submitted no later than 5 p.m. Eastern Time on the deadline date specified in the DATES section of the announcement using one of the electronic submission mechanisms specified below. All required hard copy original signatures and mail-in items must be received by the OPHS Office of Grants Management no later than 5 p.m. Eastern Time on the next business day after the deadline date specified in the DATES section of the announcement.

Applications will not be considered valid until all electronic application components, hard copy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions Via the Grants.gov Web Site Portal

The http://www.Grants.gov Web site portal provides organizations with the ability to submit applications for OPHS grant opportunities. Organizations must successfully complete the necessary registration processes in order to submit an application. Information about this system is available on the http://www.Grants.gov Web site.

In addition to electronically submitted materials, applicants may be required to submit hard copy signatures for certain Program related forms, or original materials as required by the announcement. It is imperative that the applicant review both the grant announcement, as well as the application guidance provided within the http://www.Grants.gov application package, to determine such requirements. Any required hard copy materials, or documents that require a signature, must be submitted separately via mail to the OPHS Office of Grants Management, and, if required, must contain the original signature of an individual authorized to act for the applicant agency and the obligations imposed by the terms and conditions of the grant award.

Electronic applications submitted via the http://www.Grants.gov Web site portal must contain all completed online forms required by the application kit, the Program Narrative, Budget Narrative and any appendices or exhibits. All required mail-in items must be received by the due date requirements specified above. Mail-In items may only include publications, resumes, or organizational documentation.

Upon completion of a successful electronic application submission via the http://www.Grants.gov Web site portal, the applicant will be provided with a confirmation page from http://www.grants.gov indicating the date and time (Eastern Time) of the electronic application submission, as well as the http://www.grants.gov Receipt Number. It is critical that the applicant print and retain this confirmation for their records, as well as a copy of the entire application package.

All applications submitted via the http://www.grants.gov Web site portal will be validated by http://www.grants.gov. Any applications deemed “Invalid” by the http://www.grants.gov Web site portal will not be transferred to the OPHS eGrants system, and OPHS has no responsibility for any application that is not validated and transferred to OPHS from the http://www.grants.gov Web site portal. Grants.gov will notify the applicant regarding the application validation status. Once the application is successfully validated by the http://www.grants.gov Web site portal, applicants should immediately mail all required hard copy materials to the OPHS Office of Grants Management to be received by the deadlines specified above. It is critical that the applicant clearly identify the Organization name and http://www.grants.gov Application Receipt Number on all hard copy materials.

Once the application is validated by http://www.grants.gov, it will be electronically transferred to the OPHS eGrants system for processing. Upon receipt of both the electronic application from the http://www.grants.gov Web site portal, and the required hard copy mail-in items, applicants will receive notification via mail from the OPHS Office of Grants Management confirming the receipt of the application submitted using the http://www.grants.gov Web site portal.

Applicants should contact http://www.grants.gov regarding any questions or concerns regarding the electronic application process.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time on the deadline date specified in the DATES section of the announcement. The application deadline date requirement specified in this announcement supersedes the instructions in the OPHS-1. Applications that do not meet the deadline will be returned to the applicant unread.

Applications will be screened upon receipt. Those that are judged to be incomplete or arrive after the deadline will be returned without review or comment. Applications that exceed the requested amount of $250,000 for a 12-month budget period may also be returned without review or comment. Applicants that are judged to be in compliance will be notified by the OPHS Office of Grants Management. Accepted applications will be reviewed for technical merit in accordance with DHHS policies.

4. Intergovernmental Review: This program is subject to the Public Health Systems Reporting Requirements. Under these requirements, a community-based non-governmental applicant must prepare and submit a Public Health System Impact Statement (PHSIS). Applicants shall submit a copy of the application face page (SF-424) and a one page summary of the project, called the Public Health System Impact Statement. The PHSIS is intended to provide information to State and local health officials to keep them apprised on proposed health services grant applications submitted by community-based, non-governmental organizations within their jurisdictions.

Community-based, non-governmental applicants are required to submit, no later than the Federal due date for receipt of the application, the following information to the head of the appropriate State and local health agencies in the area(s) to be impacted: (a) A copy of the face page of the application (SF 424), (b) a summary of the project (PHSIS), not to exceed one page, which provides: (1) A description of the population to be served, (2) a summary of the services to be provided, and (3) a description of the coordination planned with the appropriate state or local health agencies. Copies of the letters forwarding the PHSIS to these authorities must be contained in the application materials submitted to the OWH.

This program is also subject to the requirements of Executive Order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC in each affected State. A complete list of SPOCs may be found at the following Web site: http://www.whitehouse.gov/omb/grants/spoc.html. The due date for State process recommendations is 60 days after the application deadline. The OWH does not guarantee that it will accommodate or explain its responses to State process recommendations received after that date. (See “Intergovernmental Review of Federal Programs,” Executive Order 12372, and 45 CFR Part 100 for a description of the review process and requirements.)

5. Funding Restrictions: Funds may not be used for construction, building alterations, equipment purchase, medical treatment, renovations, or to purchase food.

6. Other Submission Requirements: Beginning October 1, 2003, all applicants are required to obtain a Data Universal Numbering System (DUNS) number as preparation for doing business electronically with the Federal Government. The DUNS number must be obtained prior to applying for OWH funds. The DUNS number is a nine-character identification code provided by the commercial company Dun & Bradstreet, and serves as a unique identifier of business entities. There is no charge for requesting a DUNS number, and you may register and obtain a DUNS number by either of the following methods:

Telephone: 1-866-705-5711.

Web site: https://www.dnb.com/product/eupdate/requestOptions.html.

Be sure to click on the link that reads, “DUNS Number Only” at the right hand, bottom corner of the screen to access the free registration page. Please note that registration via the web site may take up to 30 business days to complete.

V. Application Review Information

Criteria: The technical review of applications will consider the following factors:

Factor 1: Background/Understanding of the Problem (30%)

This section must discuss:

1. Applicant's experience providing HIV/AIDS prevention education, support services, and/or other services (e.g., women's health issues; socioeconomic empowerment services; educational services) to women at risk for or living with HIV/AIDS, particularly African American, Native American/American Indian, Hispanic/Latino, and Asian/Pacific Islander women.

2. Applicant's description of the HIV/AIDS prevention and support service needs for the women at risk for or living with HIV/AIDS and other female members of the family 12+ years old to be reached in this program; must include a detailed assessment must with age-specific demographic and service need profile for minority females (African American, Native American/American Indian, Hispanic/Latino, and Asian/Pacific Islander) in the applicant's local service area.

3. Applicant's full description of the issues or challenges that impact women at risk for or living with HIV/AIDS specific to one of the racial/ethnic minority groups to be reached (African American, Native American/American Indian, Hispanic/Latino, or Asian/Pacific Islander) relative to effective cross-generational communication about: 1) their own sexual health issues; and 2) the health of female family or kinship network members 12+ years old about:

• Understanding a woman's body and how to care for it over the lifespan.

• Knowledge of ways to enhance health.

• Building and/or maintaining healthy relationships that includes an understanding of health threats.

• Awareness of primary healthcare system and how to access it.

• Gaining skills to express feelings and concerns about one's sexual health issues to other female family or kinship network members 12+ years old.

• Increasing awareness and ability to secure a safe place to live first when threatened by sexual, physical, or emotional violence.

Factor 2: Implementation /Approach (25%)

This section must discuss:

1. Evidence provided of applicant's success in providing HIV/AIDS prevention education, support services, and/or other services (e.g., women's health issues; socioeconomic empowerment services; educational services) to women at risk for or living with HIV/AIDS who are African American, Native American/American Indian, Hispanic/Latino, or Asian/Pacific Islander.

2. Applicant's goals, objectives, plan of action and timeline that fully describes how proposed intergenerational approach to HIV/AIDS prevention education for women at risk for or living with HIV/AIDS who are African American, Native American/American Indian, Hispanic/Latino, or Asian/Pacific Islander addresses the barriers to cross-generational communication between grandmothers, mothers, daughters, granddaughters, and aunts and/or other adult female kinship members 12+ years old with the impact of age, culture, traditions, and spirituality, as well as any trends or shifts in these areas.

3. Evidence of applicant's work in establishing and/or convening African American, Native American/American Indian, Hispanic/Latino, or Asian/Pacific Islander consumers for feedback on HIV/AIDS prevention, support, care, and/or treatment programs.

4. Evidence of applicant's work in identifying and/or working with community stakeholders, specifically for HIV/AIDS prevention, support, care, and/or treatment.

Factor 3: Management Plan (25%)

The applicant's proposal should contain:

1. Applicant's proposed staff and/or requirements for new staff adequately described in resumes (see Appendix); must include contractual services of a licensed female behavioral health therapist with expertise in counseling African American, Native American/American Indian, Hispanic/Latino, or Asian/Pacific Islander women at risk for or living with HIV/AID and other female members of the family 12+ years old.

2. Proposed staff level of effort;

3. Detailed position descriptions (appears in Appendix); and

4. Addresses maintenance of confidentiality, ethics in performance, and any mandatory in-service staff training.

Factor 4: Evaluation Plan (20%)

The applicant's proposal contains:

1. Clear statement of program goal(s);

2. Quantifiable objectives;

3. Clear indicators to analyze trends; and

4. Clear indicators to recognize unanticipated outcomes.

Review and Selection Process: Funding decisions will be made by the OWH, and will take into consideration the recommendations and ratings of the review panel, program needs, geographic location, stated preferences, and the recommendations of DHHS Regional Women's Health Coordinators (RWHC). Accepted applications will be reviewed for technical merit in accordance with DHHS policies. Applications will be evaluated by a technical review panel composed of experts in the fields of minority women's health issues, particularly HIV/AIDS prevention; community based, faith based, and women's service organizations delivery of HIV/AIDS prevention and support services; and federal and state government public health systems. Applicants are requested to pay close attention to the specific program guidelines and general instructions in the application kit that may be obtained from the Office of Grants Management, Office of Public Health and Science, DHHS, 1101 Wootten Parkway, Suite 550, Rockville, MD 20852 and to the definitions provided in this notice.

Applications should be submitted to the Office of Grants Management, OPHS, DHHS, 1101 Wootten Parkway, Suite 550, Rockville, MD 20852. Technical assistance on budget and business aspects of the application may be obtained from Office of Grants Management, Office of Public Health and Science, DHHS, 1101 Wootten Parkway, Suite 550, Rockville, MD 20852, telephone: (240) 453-8822.

VI. Award Administration Information

1. Award Notices: Applicants will receive a Notice of Grant Award signed by the Grants Management Officer (GMO). This is the authorizing document and it will be sent electronically and followed up with a mailed copy.

2. Administrative and National Policy Requirements: The regulations set out at 45 CFR parts 74 and 92 are the Department of Health and Human Services (DHHS) rules and requirements that govern the administration of grants. Part 74 is applicable to all recipients except those covered by part 92, which governs awards to state and local governments. Applicants funded under this announcement must be aware of and comply with these regulations. The CFR volume that includes parts 74 and 92 may be downloaded from http://www.access.gpo.gov/nara/cfr/waisidx_03/45cfrv1_03.html.

The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting: The applicant will submit an Initial Progress Report, a Mid-Year Progress Report, a Final Progress Report, an Annual Report detailing the entire funding year, and a Financial Status Report (in accordance with provisions of the general regulations which apply under “Monitoring and Reporting Program Performance,” 45 CFR Parts 74 and 92). The Financial Status Report (FSR) SF-269 is due 90 days after the close of each 12-month budget period. OWH will provide Progress Report Forms and Annual Report Forms during the orientation meeting. The purpose of the progress reports is to provide accurate and timely program information to program managers and to respond to Congressional, Departmental, and public requests for information about the program. An original and two copies of the four report(s) must be submitted.

VII. Agency Contacts

• For budget and business aspects of the application, please contact: Eric West, Associate Grants Management Officer, Grants Management Office, OPHS, DHHS, 1101 Wootten Parkway, Suite 550, Rockville, MD 20857. Telephone: 240-453-8822.

• Questions regarding programmatic information and/or requests for technical assistance in the preparation of the grant application should be directed in writing to: Joanna Short, M. Div., Public Health Advisor, Office on Women's Health, OPHS, DHHS, H. Humphrey Building, Room 733E, 200 Independence Avenue, SW., Washington, DC 20201. Telephone: (202) 260-8420. E-mail: JShort@osophs.dhhs.gov.

VIII. Other Information

A. Protection of Human Subjects Regulations. The applicant must comply with the DHHS Protection of Human Subjects regulations (which require obtaining Institutional Review Board approval), set out as 45 CFR part 46, if applicable. General information about Human Subjects regulations can be obtained through the Office of Human Research Protections (PHRP) at http://www.hhs.gov/ohrp, or ohrp@osophs.dhhs.gov, or toll free at (866) 447-4777.

B. Objectives of Healthy People 2010. Emphasis will be placed on aligning OWH activities and programs with Healthy People 2010: Goal 2 to eliminate health disparities. More information on the Healthy People 2010 objectives may be found on the Healthy People 2010 Web site: http://www.health.gov/healthypeople.

C. Definitions.

Community-based organization: Public and private, non-profit organizations that are representative of communities or significant segments of communities.

Culturally competent: Information and services provided at the educational level and in the language and cultural context that are most appropriate for the individuals for whom the information and services are intended. Additional information on cultural competency is available at the following Web site: http://www.aoa.dhhs.gov/May2001/factsheets/Cultural-Competency.html.

Evidence-Based: DHHS recognizes HIV/AID prevention education approaches for reaching minority populations, namely education/training, outreach (street, media), and care services. Additional information on evidence-based HIV/AIDS prevention programs is available at the following Web site: http://www.cdc.gov/hiv/pubs/hivcompendium/organize.htm.

Gender-focused: An approach which, in considering the social and environmental contexts impacting women's lives therefore structures information, activities, program priorities, and service delivery systems that compliment those factors.

Healthy People 2010: A set of national health objectives that outlines the prevention agenda for the Nation. Healthy People 2010 identifies the most significant preventable threats to health and establishes national goals for the next ten years. Individuals, groups, and organizations are encouraged to integrate Healthy People 2010 into current programs, special events, publications, and meetings. Businesses can use the framework, for example, to guide worksite health promotion activities as well as community-based initiatives. Schools, colleges, and civic and faith-based organizations can undertake activities to further the health of all members of their community. Health care providers can encourage their patients to pursue healthier lifestyles and to participate in community-based programs. By selecting from among the national objectives, individuals and organizations can build an agenda for community health improvement and can monitor results over time. More information on the Healthy People 2010 objectives may be found on the Healthy People 2010 Web site: http://www.health.gov/healthypeople.

Prevention education: Accurate information to increase knowledge of methods and behaviors to keep individuals from becoming infected with HIV.

References

(1) Centers for Disease Control and Prevention. HIV/AIDS Surveillance Report. 2002; 14/Addendum: 5. Table A3.

(2) Centers for Disease Control and Prevention. HIV/AIDS Surveillance Report 2002, Vol. 14.

Dated: June 16, 2006.
Frances Ashe-Goins,
Deputy Director and Director of Policy and Program Development (Women's Health).

[FR Doc. E6-10230 Filed 6-29-06; 8:45 am]

BILLING CODE 4150-33-P